DEPARTMENT OF JUSTICE

Notice of Lodging of Proposed Second Consent Decree Modification Under the Comprehensive Environmental Response, Compensation, and Liability Act

On August 9, 2022, the Department of Justice lodged a proposed second consent decree modification with the United States District Court for the District of New Jersey in the lawsuit entitled United States v. The Sherwin-Williams Company, Civil Action No. 1:19-cv-01907-JHR-EAP, an action brought under the Comprehensive Environmental Response, Compensation, and Liability Act (“CERCLA”), 42 U.S.C. 9601 et seq. On April 16, 2019, the Court entered a consent decree (“Consent Decree” or “Decree”) in this action which resolved the United States' claim against The Sherwin-Williams Company (“Sherwin-Williams”) for certain past costs incurred by the United States relating to the Sherwin-Williams/Hilliards Creek Site, Route 561 Dump Site, and United States Avenue Burn Site (the “Sites”). The Sites are located in Gibbsboro and Voorhees, New Jersey.

The Consent Decree entered in this action also provides for Sherwin-Williams' performance of the soils and sediments operable unit remedy selected by the U.S. Environmental Protection Agency (“EPA”) for the United States Avenue Burn Site. In addition, the Consent Decree provides that, after EPA selects a remedy in a Record of Decision (“ROD”) for an additional operable unit at one or more of the Sites, the Decree may be modified to add Sherwin-Williams' performance of the newly selected additional operable unit remedy to the work required under the Decree. In accordance with this provision, a first modification to the Decree was entered on April 5, 2021, which provides for Sherwin Williams' performance of the soils and sediments operable unit remedy selected by EPA for the former manufacturing plant area and adjoining areas at the Sherwin-Williams/Hilliards Creek Site (“SW/HC OU2”).

Since then, EPA has issued a ROD selecting the remedy for the waterbodies operable unit at the Sherwin-Williams/Hilliards Creek Site (“SW/HC OU4”). The selected remedy for SW/HC OU4 provides for remediation of waterbodies at the Sherwin-Williams/Hilliards Creek Site, including contaminated soil and sediment removal in or adjacent to lakes and creeks at the site, installation of engineering controls in flood plain areas adjacent to Hilliards Creek, restoration and revegetation of Hilliards Creek flood plain, stream bank remediation, and institutional controls.

The proposed second consent decree modification that was lodged with the Court on August 9, 2022, provides for Sherwin-Williams' performance of the remedy for waterbodies at the Sherwin-Williams/Hilliards Creek Site selected in the SW/HC OU4 ROD in accordance with the terms of the decree and the statement of work attached to the proposed second consent decree modification.

The publication of this notice opens a period for public comment on the second consent decree modification. Comments should be addressed to the Assistant Attorney General, Environment and Natural Resources Division, and should refer to United States v. The Sherwin-Williams Company, D.J. Ref. No. 90-11-3-09023/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed second consent decree modification, with attached statement of work, may be examined and downloaded at this Justice Department website: https://www.justice.gov/enrd/consent-decrees. We will provide a paper copy of the second consent decree modification, with attached statement of work, upon written request and payment of reproduction costs. Please mail your request and payment to: Consent Decree Library, U.S. DOJ—ENRD, P.O. Box 7611, Washington, DC 20044-7611.

Please enclose a check or money order for $19.75 (25 cents per page reproduction cost), payable to the United States Treasury.

Henry S. Friedman,
Assistant Section Chief, Environmental Enforcement Section, Environment & Natural Resources Division.

[FR Doc. 2022-17616 Filed 8-15-22; 8:45 am]

BILLING CODE 4410-15-P